DEPARTMENT OF THE INTERIOR

Fish and Wildlife Service

ACTION: Notice of Availability.

SUMMARY: The Fish and Wildlife Service has published a Comprehensive Conservation Plan, Environmental Assessment, and a Finding of No Significant Impact for Florida Panther National Wildlife Refuge in Collier County, Florida. The plan describes how the Fish and Wildlife Service intends to manage the refuge for the next 15 years.

ADDRESSES: A copy of the above documents may be obtained by writing to the Fish and Wildlife Service, Attention: Jennifer Harris, 1875 Century Boulevard, Suite 420, Atlanta, Georgia 30345; or to Jim Krakowski, Refuge Manager, Florida Panther National Wildlife Refuge, 3860 Tollgate Boulevard, Suite 300, Naples, Florida 34114.

SUPPLEMENTARY INFORMATION: By implementing this comprehensive conservation plan, the refuge seeks to (1) provide a clear statement of the desired future conditions when refuge purposes and goals are accomplished; (2) provide refuge neighbors and visitors with a clear understanding of the reasons for management actions on and around the refuge; (3) ensure that management of other refuge reflects policies and goals of the National Wildlife Refuge System; (4) ensure that refuge management is consistent with federal, state, and county plans; (5) provide long-term continuity in refuge management; and (6) provide a basis for operation, maintenance, and capital improvement budget requests.

Dated: April 7, 2000.
Judy L. Jones,
Acting Regional Director.

[FR Doc. 00-9457 Filed 4-14-00; 8:45 am]

BILLING CODE 4310-55-M